DEPARTMENT OF TRANSPORTATION

Federal Aviation Administration

Twenty Seventh RTCA SC-223 IPS and AeroMACS Joint Plenary With WG-108

AGENCY: Federal Aviation Administration (FAA), U.S. Department of Transportation (DOT).

ACTION: Twenty Seventh RTCA SC-223 IPS and AeroMACS Joint Plenary with WG-108.

SUMMARY: The FAA is issuing this notice to advise the public of a meeting of Twenty Seventh RTCA SC-223 IPS and AeroMACS Joint Plenary with WG-108.

DATES: The meeting will be held June 4, 2018 10:30 a.m.-5:00 p.m. and June 5-7, 2018 9:00 a.m.-5:00 p.m.

ADDRESSES: The meeting will be held at: EUROCAE, 9 Rue Paul Lafargue, 93210 Saint-Denis, France.

FOR FURTHER INFORMATION CONTACT: Rebecca Morrison at rmorrison@rtca.org or 202-330-0654, or The RTCA Secretariat, 1150 18th Street NW, Suite 910, Washington, DC 20036, or by telephone at (202) 833-9339, fax at (202) 833-9434, or website at http://www.rtca.org.

SUPPLEMENTARY INFORMATION: Pursuant to section 10(a) (2) of the Federal Advisory Committee Act (Pub. L. 92-463, 5 U.S.C., App.), notice is hereby given for a meeting of the Twenty Seventh RTCA SC-223 IPS and AeroMACS Joint Plenary with WG-108. The agenda will include the following:

Monday June 4, 2018 10:30 a.m.-5:00 p.m.

1. Welcome, Introductions, DFO Statement, Administrative Remarks

2. Review of Previous Meeting Notes and Action Items

3. Review of Current State of Industry Standards

A. ICAO WG-I

B. AEEC IPS Sub Committee

C. RTCA SC-223 Status

D. EUROCAE WG-108 Status

4. Current State of Activities

A. FAA Status

B. SESAR Programs

C. ESA IRIS Precursor

D. Any Other Activities

5. IPS Technical Discussions

A. Consider a Motion To Initiate Open Consultation/Final ReviewaAnd Comment for IPS Profile Document

B. Review of IPS High-Level Profile and RFC Detail Profiles

C. Discussion of Mops and Guidance Document Scope & Plan

6. Review and Approve Changes to the Terms of Refence For SC-223 and WG-108

7. Any Other Topics of Interest

8. Plans for Next Meetings

9. Review of Action Items and Meeting Summary

Tuesday June 5, 2018 9:00 a.m.-5:00 p.m.

10. Continue With Plenary Agenda

Wednesday June 6, 2018 9:00 a.m.-5:00 p.m.

11. Continue With Plenary Agenda

Thursday June 7, 2018 9:00 a.m.-5:00 p.m.

12. Continue With Plenary Agenda

13. Adjourn When Plenary Business Is Complete

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on April 30, 2018.
Michelle Swearingen,
Systems and Equipment Standards Branch, AIR-6B0, Policy and Innovation Division, AIR-600, Federal Aviation Administration.

[FR Doc. 2018-09446 Filed 5-3-18; 8:45 am]

BILLING CODE 4910-13-P